DEPARTMENT OF HEALTH AND HUMAN SERVICES

Centers for Disease Control and Prevention

[Program Announcement 03125]

Mental Health of Humanitarian Aid Workers Program; Notice of Availability of Funds

Application Deadline: July 28, 2003.

A. Authority and Catalog of Federal Domestic Assistance Number

This program is authorized under sections 301, 307, and 317 of the Public Health Service Act, [42 U.S.C. 241, 2421, and 247b], as amended. The Catalog of Federal Domestic Assistance number is 93.283.

B. Purpose

The Centers for Disease Control and Prevention (CDC) announces the availability of fiscal year (FY) 2003 funds for a cooperative agreement program to design a program to mitigate the impact of stress and trauma on humanitarian aid workers. Measurable outcomes from this program would include a functional framework for stress and trauma prevention measures in humanitarian aid organizations.

C. Eligible Applicants

Assistance will be provided to a public, private, for-profit, or non-profit organization (including faith-based organizations) that has an international capacity to plan programs to mitigate the impact of traumatic stress on humanitarian aid workers.

Competition is being limited to organizations with specific capacity and experience working with humanitarian aid workers due to the unusual nature of traumatic exposures that humanitarian aid workers receive in the course of their work. This experience is paramount to understanding the unique needs of this population.

Note: Title 2 of the United States Code section 1611 states that an organization described in section 501c(4) of the Internal Revenue Code that engages in lobbying activities is not eligible to receive Federal funds constituting an award, grant or loan.

D. Funding

Availability of Funds

Approximately $100,000 is available in FY 2003 to fund one award. It is expected that the award will begin on or about September 1, 2003 and will be made for a 12-month budget period within a project period of up to three years. Funding estimates may change.

Continuation awards within an approved project period will be made on the basis of satisfactory progress as evidenced by required reports and the availability of funds.

Use of Funds

1. Funds may be spent for reasonable program purposes, including personnel, travel, supplies, and services. Equipment may be purchased if deemed necessary to accomplish program objectives; however, prior approval by CDC officials must be requested in writing.

2. All requests for funds contained in the budget, shall be stated in U.S. dollars. Once an award is made, CDC will not compensate foreign grantees for currency exchange fluctuations through the issuance of supplemental awards.

3. The costs that are generally allowable in grants to domestic organizations are allowable to foreign institutions and international organizations, with the following exception: With the exception of the American University, Beirut, and the World Health Organization, Indirect Costs will not be paid (either directly or through sub-award) to organizations located outside the territorial limits of the United States or to international organizations regardless of their location.

4. The applicant may contract with other organizations under this program; however the applicant must perform a substantial portion of the activities (including program management and operations, and delivery of prevention services for which funds are required.)

5. You must obtain annual audit of these CDC funds (program-specific audit) by a U.S.-based audit firm with international branches and current licensure/authority in-country, and in accordance with International Accounting Standards or equivalent standard(s) approved in writing by CDC.

6. A fiscal Recipient Capability Assessment may be required, prior to or post award, in order to review the applicant's business management and fiscal capabilities regarding the handling of U.S. Federal funds.

Recipient Financial Participation

Matching funds are not required for this program.

E. Program Requirements

In conducting activities to achieve the purpose of this program, the recipient will be responsible for the activities listed in 1. Recipient Activities, and CDC will be responsible for the activities listed in 2. CDC Activities.

1. Recipient Activities

a. Identify and incorporate public health principles into the planning of a program to mitigate the impact of traumatic stress on humanitarian aid workers.

b. Design materials and strategies to facilitate the implementation of programs to mitigate the impact of traumatic stress on humanitarian aid workers.

c. Plan, implement and support programs and/or strategies which will highlight the impact of traumatic stress on humanitarian aid workers and raise the awareness in humanitarian organizations of the need for prevention and mitigation programs.

d. Develop any required research protocols for Institutional Review Board (IRB) review.

2. CDC Activities

a. Provide consultation, technical assistance and collaboration in planning program activities.

b. Provide consultation, technical assistance and collaboration in implementing program activities.

c. Prepare and present reports and materials related to activities conducted under this program for wide distribution to the international community.

d. Assist in the development of a research protocol for Institutional Review Board (IRB) review by all cooperating institutions participating in the research project. The CDC IRB will review and approve the protocol initially and on at least an annual basis until the research project is completed.

F. Content

Letter of Intent (LOI)

A LOI is not required for this program.

Applications

The Program Announcement title and number must appear in the application. Use the information in the Program Requirements, Other Requirements, and Evaluation Criteria sections to develop the application content. Your application will be evaluated on the criteria listed, so it is important to follow them in laying out your program plan. The narrative should be no more than twenty pages, double-spaced, printed on one side, with one-inch margins, and unreduced 12-point font.

The narrative should consist of, at minimum, a plan, objectives, methods, evaluation, and budget. The program plan should address activities to be conducted over the entire three-year project period. Provide a detailed budget and justification based on the funds available.

G. Submission and Deadline

Application Forms

Submit the signed original and two copies of PHS 5161-1 (OMB Number 1920-0428). Forms are available at the following Internet address: http://www.cdc.gov/od/pgo/forminfo.htm

If you do not have access to the Internet, or if you have difficulty accessing the forms on-line, you may contact the CDC Procurement and Grants Office Technical Information Management Section (PGO-TIM) at: 770-488-2700. Application forms can be mailed to you.

Submission Date, Time, and Address

The application must be received by 4 p.m. Eastern Time July 28, 2003. Submit the application to: Technical Information Management-PA#03125, CDC Procurement and Grants Office, 2920 Brandywine Road, Atlanta, GA 30341-4146.

Applications may not be submitted electronically.

CDC Acknowledgement of Application Receipt

A postcard will be mailed by PGO-TIM, notifying you that CDC has received your application.

Deadline

Applications shall be considered as meeting the deadline if they are received before 4 p.m. Eastern Time on the deadline date. Any applicant who sends their application by the United States Postal Service or commercial delivery services must ensure that the carrier will be able to guarantee delivery of the application by the closing date and time. If an application is received after closing due to (1) carrier error, when the carrier accepted the package with a guarantee for delivery by the closing date and time, or (2) significant weather delays or natural disasters, CDC will upon receipt of proper documentation, consider the application as having been received by the deadline.

Any application that does not meet the above criteria will not be eligible for competition, and will be discarded. The applicant will be notified of their failure to meet the submission requirements.

H. Evaluation Criteria

Application

Applicants are required to provide measures of effectiveness that will demonstrate the accomplishment of the various identified objectives of the cooperative agreement. Measures of effectiveness must relate to the performance goals stated in the purpose section of this announcement. Measures must be objective and quantitative and must measure the intended outcome. These measures of effectiveness must be submitted with the application and will be an element of evaluation.

An independent review group appointed by CDC will evaluate each application against the following criteria:

1. Scientific or Technical Approach (30 points). Provide evidence of demonstrated scientific expertise involving the mitigation of traumatic stress in humanitarian aid workers.

2. Methodology and Approach (30 points)

a. Provide evidence of demonstrated expertise in methodology for the evaluation and development of programs that prevent and/or mitigate the impact of traumatic stress on humanitarian aid workers.

b. Demonstrate experience in providing staff training, strategic planning, and logistical support to programs that prevent and/or mitigate the impact of traumatic stress on humanitarian aid workers.

3. Staff Experience and Capability (30 points). Provide evidence of demonstrated technical expertise and professional capability of staff in the field of psycho-social services and public health related to humanitarian aid workers.

4. Understanding of the Project (10 points).

a. Demonstrated clarity, feasibility, and practicality of the proposed plan to accomplish this project.

b. Demonstrated recognition of the potential difficulties in performance and appropriateness and soundness of proposed solutions.

5. Budget Justification (not scored). The extent to which the budget is clearly explained, adequately justified, and is reasonable and consistent with the stated objectives and planned activities.

6. Human Subjects (not scored). The extent to which the applicant complies with the Department of Health and Human Services Regulations (45 CFR Part 46) regarding the protection of human subjects. An application can be disapproved if the research risks are sufficiently serious and protection against risks is so inadequate as to make the entire application unacceptable.

I. Other Requirements

Technical Reporting Requirements

1. Provide CDC with an interim progress report, due no less than 90 days before the end of the budget period. This progress report will serve as your non-competing continuation application, and must contain the following elements:

a. Progress on Current Budget Period Objectives and Activities.

b. Current Budget Period Financial Progress.

c. New Budget Period Proposed Program Objectives and Activities.

d. Detailed Line-Item Budget and Justification.

2. Financial Status Reports are due within 90 days of the end of the budget period.

3. Final financial reports and performance reports are due within 90 days after the end of the project period. Send all reports to the Grants Management Specialist identified in the “Where to Obtain Additional Information” section of this announcement.

Additional Requirements

The following additional requirements are applicable to this program. For a complete description of each, see Attachment I of the program announcement, as posted on the CDC web site.

AR-1—Human Subjects Review

AR-12—Lobbying Restrictions

AR-14—Accounting System Requirements

AR-15—Proof of Non-Profit Status

Executive Order 12372 does not apply to this program.

J. Where To Obtain Additional Information

This, and other CDC announcements, the necessary applications, and associated forms can be found on the CDC web site, Internet address: http://www.cdc.gov.

Click on “Funding” then “Grants and Cooperative Agreements”.

For general questions about this announcement, contact: Technical Information Management, CDC Procurement and Grants Office, 2920 Brandywine Road, Atlanta, GA 30341-4146, Telephone: 770-488-2700.

For business management and budget assistance, contact: Diane Flournoy, Grants Management Specialist, Procurement and Grants Office, Centers for Disease Control and Prevention, 2920 Brandywine Road, Atlanta, GA 30341-4146, Telephone: 770-488-2072, E-mail address: dmf6@cdc.gov.

For program technical assistance, contact: Barbara Lopes Cardozo, International Emergency and Refugee Health Branch, National Center for Environmental Health Centers for Disease Control and Prevention, Mail Stop F-48, 4770 Buford Highway, Atlanta, GA 30341, Telephone: 770-488-4138, E-mail address: BLopesCardozo@cdc.gov.

Dated: June 20, 2003.
Sandra R. Manning,
Director, Procurement and Grants Office, Centers for Disease Control and Prevention.

[FR Doc. 03-16150 Filed 6-25-03; 8:45 am]

BILLING CODE 4163-18-P